DEPARTMENT OF LABOR

Employment and Training Administration

[TA-W-64,801; TA-W-64,801A]

Cequent Electrical Products, Inc., Formerly Known as Tekonsha Towing, Currently Known as Cequent Performance Products, Angolia, IN; Cequent Electrical Products, Inc., Formerly Known as Tekonsha Towing, Currently Known as Cequent Performance Products, McAllen, TX; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 15, 2009, applicable to workers of Cequent Electrical Products, Inc., Angolia, Indiana and Cequent Electrical Products, Inc., McAllen, Texas. The notice was published in the Federal Register on February 2, 2009 (74 FR 5870). The certification was amended on February 18, 2009 to that the subject firm was formerly known as Tekonsha Towing. The notice was published in the Federal Register on March 3, 2009 (74 FR 9289).

At the request of the State agency, the Department reviewed the certification for workers of the subject firm. The workers are engaged in activities related to warehousing and distribution supporting Cequent Electrical Products, Inc., Tekonsha, Michigan, a currently TAA-certified worker group.

Information also shows that following a corporate decision, Cequent Electrical Products, Inc. is currently known as Cequent Performance Products as of January 1, 2009.

Accordingly, the Department is amending this certification to show that Cequent Electrical Products, Inc. is currently known as Cequent Performance Products.

The intent of the Department's certification is to include all workers of the subject firm who were adversely affected by increased imports of brake controls, breakaway kits and lights produced at the Tekonsha, Michigan location of the subject firm.

The amended notice applicable to TA-W-64,801 and TA-W-64,801A are hereby issued as follows:

All workers of Cequent Electrical Products, Inc., formerly known as Tekonsha Towing, currently known as Cequent Performance Products, Angola, Indiana (TA-W-64,801) and Cequent Electrical Products, Inc., formerly known as Tekonsha Towing, currently known as Cequent Performance Products, McAllen, Texas (TA-W-64,801A), who became totally or partially separated from employment on or after December 30, 2007 through January 15, 2011, are eligible to apply for adjustment assistance under Section 223 of the Trade Act of 1974 and are also eligible to apply for alternative trade adjustment assistance under Section 246 of the Trade Act of 1974.

Signed at Washington, DC, this 3rd day of April 2009.
Elliott S. Kushner,
Certifying Officer, Division of Trade Adjustment Assistance.

[FR Doc. E9-8413 Filed 4-13-09; 8:45 am]

BILLING CODE 4510-FN-P